DEPARTMENT OF COMMERCE

International Trade Administration

[A-580-601]

Top-of-the-Stove Stainless Steel Cooking Ware From the Republic of Korea: Amended Final Results and Rescission, in Part, of Antidumping Duty Administrative Review

AGENCY: Import Administration, International Trade Administration, Department of Commerce.

ACTION: Notice of amended final results of antidumping duty administrative review.

SUMMARY: We are amending our final results of the 1999 administrative review of the antidumping duty order on top-of-the-stove-stainless steel cooking ware from the Republic of Korea, published on August 29, 2001 (66 FR 45664), to reflect the correction of ministerial errors made in the final results. This correction is in accordance with section 751(h) of the Tariff Act of 1930, as amended (the Act) and 19 CFR 351.224 of the Department's regulations. The period covered by these amended final results of review is January 1, 1999 through December 31, 1999.

EFFECTIVE DATE: October 1, 2001.

FOR FURTHER INFORMATION CONTACT: Paige Rivas or Ron Trentham, AD/CVD Enforcement, Office 4, Group II, Import Administration, International Trade Administration, U.S. Department of Commerce, 14th Street and Constitution Ave., NW., Washington, DC 20230; telephone: (202) 482-0651 or 482-6320, respectively.

The Applicable Statute

Unless otherwise indicated, all citations to the Tariff Act of 1930, as amended (the Act), are references to the provisions effective January 1, 1995, the effective date of the amendments made to the Act by the Uruguay Round Agreements Act (URAA). In addition, unless otherwise indicated, all citations to the Department's regulations are to 19 CFR part 351 (2000).

Background

On February 23, 2001, the Department of Commerce (the Department) published the preliminary results of the 1999 administrative review of the antidumping duty order on top-of-the-stove stainless steel cooking ware from the Republic of Korea. The Department published the final results of review on August 29, 2001. See Top-of-the-Stove Stainless Steel Cooking Ware From the Republic of Korea: Final Results and Rescission, in Part, of Antidumping Duty Administrative Review, 66 FR 45664 (August 29, 2001) (Final Results).

On August 30, 2001, we received timely allegations from Dong Won Metal Co., Ltd. (Dong Won) (a respondent) that the Department made ministerial errors in the final results of review regarding Dong Won. The petitioner did not submit any comments in reply to these ministerial error allegations.

Scope of Review

The merchandise subject to this antidumping order is top-of-the-stove stainless steel cookware from Korea. The subject merchandise is all non-electric cooking ware of stainless steel which may have one or more layers of aluminum, copper or carbon steel for more even heat distribution. The subject merchandise includes skillets, frying pans, omelette pans, saucepans, double boilers, stock pots, dutch ovens, casseroles, steamers, and other stainless steel vessels, all for cooking on stove top burners, except tea kettles and fish poachers. Excluded from the scope of the order are stainless steel oven ware and stainless steel kitchen ware. The subject merchandise is currently classifiable under Harmonized Tariff Schedule (HTS) item numbers 7323.93.00 and 9604.00.00. The HTS item numbers are provided for convenience and Customs purposes only. The written description remains dispositive.

The Department has issued several scope clarifications for this order. The Department found that certain stainless steel pasta and steamer inserts (63 FR 41545, August 4, 1998), certain stainless steel eight-cup coffee percolators (58 FR 11209, February 24, 1993), and certain stainless steel stock pots and covers are within the scope of the order (57 FR 57420, December 4, 1992). Moreover, as a result of a changed circumstances review, the Department revoked the order on Korea in part with respect to certain stainless steel camping ware (1) made of single-ply stainless steel having a thickness no greater than 6.0 millimeters; and (2) consisting of 1.0, 1.5, and 2.0 quart saucepans without handles and with lids that also serve as fry pans (62 FR 3662, January 24, 1997).

Amendment of Final Results

Comment 1

Dong Won states that the model matching programming language as applied for the final results for Dong Won fails to restrict the search for similar matches to products with the same “product type,” as was the Department's clearly stated intent. According to Dong Won, as currently written, the Department's margin program model matching methodology instead allows U.S. models to be compared to third country models of any body type. Dong Won urges the Department to correct this significant ministerial error.

Department's Position: After a review of Dong Won's allegation, we agree with Dong Won and have corrected our model match program. See Calculation Memorandum dated September 24, 2001 for the corrections.

Comment 2

Dong Won contends that, as in the preliminary results, the Department's final margin program contains a step in which the weighted-average third country selling expense data for matching models is merged with Dong Won's U.S. sales file. According to Dong Won, because the conversion of these expenses is done with a “data merge,” the Department's SAS program incorrectly multiplies the won-denominated third country selling expenses by the exchange rate twice, thus significantly understating the value of DINLFTPT, CREDIT2T, DIRSEL2T, DINVCART, and PACKT for certain records.

Dong Won points out that this same clerical error was addressed in its administrative Case Brief. See Letter from Hogan & Hartson to the U.S. Department of Commerce, dated March 26, 2001. According to Dong Won, in response, the Department indicated in Comment 7 of the Issues and Decision Memorandum for the Administrative Review of Top-of-the-Stove Stainless Cooking Ware from Korea; Final Results, dated August 22, 2001, (Decision Memorandum) that it agreed with Dong Won and that it believed that it corrected for this error in the process of correcting the transposition of certain selling expense fields as outlined in response to Comment 6 of the Decision Memorandum. Dong Won contends that the transposition of the expense fields did not correct the conversion error for the reasons discussed above and requests that the Department correct this ministerial error.

Department's Position: We agree with Dong Won and have corrected the programming language in the margin calculation program. See Calculation Memorandum for the programming changes.

Amended Final Results

As a result of our review and the correction of the ministerial errors described above, we have determined that the margin for Dong Won is 13.30 percent. No other changes have been to made to the other margins published in the Final Results.

Assessment

The Department shall determine, and the U.S. Customs Service shall assess, antidumping duties on all appropriate entries. The Department will issue appraisement instructions directly to the Customs Service. In accordance with 19 CFR 351.212(b)(1), we have calculated for Dong Won importer-specific assessment rates based on the ratio of the total amount of antidumping duties calculated for the importer-specific sales to the total entered value of the same sales. Where the importer-specific assessment rate is above de minimis, we will instruct Customs to assess antidumping duties on that importer's entries of subject merchandise.

Cash Deposit Requirements

Upon publication of this notice of amended final results of these administrative reviews for all shipments of top-of-stove stainless steel cooking ware from Korea entered, or withdrawn from warehouse, for consumption on or after publication date of the amended final results of these administrative reviews, as provided by section 751(a)(1) of the Act, the cash deposit rate for Dong Won will be the rate established in the amended final results of this administrative review. No other changes have been made to the cash deposit requirements provided in the Final Results.

We are issuing and publishing this determination and notice in accordance with sections 751(a)(1) and 777(i) of the Act.

Dated: September 24, 2001.
Faryar Shirzad,
Assistant Secretary for Import Administration.

[FR Doc. 01-24504 Filed 9-28-01; 8:45 am]

BILLING CODE 3510-DS-P